ENVIRONMENTAL PROTECTION AGENCY

40 CFR Part 52

[EPA-R09-OAR-2016-0524; FRL-9956-68-Region 9]

Partial Approval, Partial Disapproval of California Air Plan Revisions, Antelope Valley Air Quality Management District

AGENCY: Environmental Protection Agency (EPA).

ACTION: Proposed rule.

SUMMARY: The Environmental Protection Agency (EPA) is proposing a partial approval and partial disapproval of revisions to the Antelope Valley Air Quality Management District (AVAQMD or District) portion of the California State Implementation Plan (SIP). These revisions concern the District's demonstration regarding Reasonably Available Control Technology (RACT) requirements for the 1997 and 2008 8-hour ozone National Ambient Air Quality Standards (NAAQS). We are proposing action on local SIP revisions under the Clean Air Act (CAA or the Act). We are taking comments on this proposal and plan to follow with a final action.

DATES: Any comments must arrive by January 17, 2017.

ADDRESSES: Submit your comments, identified by Docket ID No. EPA-R09-OAR-2016-0524 at http://www.regulations.gov, or via email to Andrew Steckel, Rulemaking Office Chief at Steckel.Andrew@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Stanley Tong, EPA Region IX, (415) 947-4122, tong.stanley@epa.gov.

SUPPLEMENTARY INFORMATION: Throughout this document, “we,” “us” and “our” refer to the EPA.

Table of Contents

I. The State's Submittal

A. What documents did the State submit?

B. Are there other versions of these documents?

C. What is the purpose of the RACT SIP submissions?

II. The EPA's Evaluation and Proposed Action

A. How is the EPA evaluating the RACT SIP submissions?

B. Do the RACT SIP submissions meet the evaluation criteria?

C. What are the RACT deficiencies?

D. EPA Recommendations To Further Improve the RACT SIPs

E. Proposed Action and Public Comment

III. Statutory and Executive Order Reviews

I. The State's Submittal

A. What documents did the State submit?

Table 1 lists the documents addressed by this proposal with the dates that they were adopted by the local air agency and submitted by the California Air Resources Board (CARB).

Table 1—Submitted Documents
Local agency | Document | Adopted | Submitted
AVAQMD | AVAQMD 8-Hour Reasonably Available Control Technology—State Implementation Plan Analysis (RACT SIP Analysis)—1997 8-hour Ozone NAAQS “2006 RACT SIP” | 09/19/06 | 01/31/07
AVAQMD | AVAQMD 8-Hour Reasonably Available Control Technology—State Implementation Plan Analysis (2015 RACT SIP Analysis)—2008 8-hour Ozone NAAQS “2015 RACT SIP” | 07/21/15 | 10/23/15

On July 31, 2007, the submittal for AVAQMD's 2006 RACT SIP Analysis for the 1997 8-hour ozone NAAQS was deemed by operation of law to meet the completeness criteria in Title 40 of the Code of Federal Regulations (CFR) part 51 Appendix V, which must be met before formal EPA review.

On March 9, 2016, the submittal for AVAQMD's 2015 RACT SIP Analysis for the 2008 8-hour ozone NAAQS was found to meet the completeness criteria in 40 CFR part 51 Appendix V, which must be met before formal EPA review.

B. Are there other versions of these documents?

There are no previous versions of these documents in the AVAQMD portion of the California SIP for the 1997 or 2008 8-hour ozone standard.

C. What is the purpose of the RACT SIP submissions?

Volatile Organic Compounds (VOCs) and nitrogen oxides (NOX) help produce ground-level ozone and smog, which harm human health and the environment. Section 110(a) of the CAA requires states to submit regulations that control VOC and NOX emissions. Sections 182(b)(2) and (f) require that SIPs for ozone nonattainment areas classified as moderate or above implement RACT for any source covered by a Control Techniques Guidelines (CTG) document and for any major source of VOCs or NOX. The AVAQMD is subject to this requirement as it is designated and classified as a severe-15 ozone nonattainment area for the 1997 8-hour ozone NAAQS.¹ Therefore, the AVAQMD must, at a minimum, adopt RACT-level controls for all sources covered by a CTG document and for all major non-CTG sources of VOCs or NOX within the nonattainment area. Any stationary source that emits or has the potential to emit at least 100 tons per year of VOCs or NOX is a major stationary source in a moderate ozone nonattainment area (CAA section 182(b)(2), (f) and 302(j)), and any stationary source that emits or has the potential to emit at least 25 tons per year of VOCs or NOX is a major stationary source in a severe ozone nonattainment area (CAA sections 182(d) and (f)).

¹ 40 CFR 81.305; 69 FR 23858 at 23884 (April 30, 2004) (final rule designating and classifying Antelope Valley as a Subpart 2/moderate nonattainment for the 1997 8-hour ozone NAAQS); 77 FR 26950 (May 8, 2012) (final rule reclassifying Antelope Valley as severe-15 nonattainment for the 1997 8-hour ozone NAAQS); and 77 FR 30088 at 30100 (May 21, 2012) (final rule designating and classifying Antelope Valley as severe-15 nonattainment for the 2008 8-hour ozone NAAQS). Antelope Valley AQMD is listed in the final rulemaking under “Los Angeles-San Bernardino Cos (W Mojave Desert), CA: Los Angeles County (part)”.

Section IV.G. of the preamble to the EPA's final rule to implement the 1997 8-hour ozone NAAQS (70 FR 71612, November 29, 2005) discusses RACT requirements. It states in part that where a RACT SIP is required, states implementing the 8-hour standard generally must assure that RACT is met either through a certification that previously required RACT controls represent RACT for 8-hour implementation purposes or through a new RACT determination. Section III.D of the preamble to the EPA's final rule to implement the 2008 ozone NAAQS (80 FR 12264, March 6, 2015) discusses similar requirements for RACT. The submitted documents provide AVAQMD's analyses of its compliance with the CAA section 182 RACT requirements for the 1997 and 2008 8-hour ozone NAAQS. The EPA's technical support documents (TSD) have more information about the District's submissions and the EPA's evaluations thereof.

II. The EPA's Evaluation and Proposed Action

A. How is the EPA evaluating the RACT SIP submissions?

SIP rules must be enforceable (see CAA section 110(a)(2)), must not interfere with applicable requirements concerning attainment and reasonable further progress or other CAA requirements (see CAA section 110(l)), and must not modify certain SIP control requirements in nonattainment areas without ensuring equivalent or greater emissions reductions (see CAA section 193). Generally, SIP rules must require RACT for each category of sources covered by a CTG document as well as each major source of VOCs or NOX in ozone nonattainment areas classified as moderate or above (see CAA section 182(b)(2)). The AVAQMD regulates a severe ozone nonattainment area (see 40 CFR 81.305), so the District's rules must implement RACT.

Guidance and policy documents that we use to evaluate enforceability, rule stringency requirements and CAA section 182 RACT requirements for the applicable criteria pollutants include the following:

1. “Final Rule to Implement the 8-hour Ozone National Ambient Air Quality Standard—Phase 2” (70 FR 71612; November 29, 2005).

2. “State Implementation Plans; General Preamble for the Implementation of Title I of the Clean Air Act Amendments of 1990,” 57 FR 13498 (April 16, 1992); 57 FR 18070 (April 28, 1992).

3. “Issues Relating to VOC Regulation Cutpoints, Deficiencies, and Deviations,” EPA, May 25, 1988 (the Bluebook).

4. “Guidance Document for Correcting Common VOC & Other Rule Deficiencies,” EPA Region 9, August 21, 2001 (the Little Bluebook).

5. “State Implementation Plans; Nitrogen Oxides Supplement to the General Preamble; Clean Air Act Amendments of 1990 Implementation of Title I; Proposed Rule,” (the NOX Supplement), 57 FR 55620, November 25, 1992.

6. Memorandum from William T. Harnett to Regional Air Division Directors, (May 18, 2006), “RACT Qs & As—Reasonably Available Control Technology (RACT) Questions and Answers”.

7. RACT SIPs, Letter dated March 9, 2006 from EPA Region IX (Andrew Steckel) to CARB (Kurt Karperos) describing Region IX's understanding of what constitutes a minimally acceptable RACT SIP.

8. RACT SIPs, Letter dated April 4, 2006 from EPA Region IX (Andrew Steckel) to CARB (Kurt Karperos) listing EPA's current CTGs, ACTs, and other documents which may help to establish RACT.

9. “Implementation of the 2008 National Ambient Air Quality Standards for Ozone: State Implementation Plan Requirements” (80 FR 12264; March 6, 2015).

With respect to major stationary sources, because the Antelope Valley ozone nonattainment area was classified as “moderate” nonattainment for the 1997 8-hour ozone NAAQS at the time that California submitted the 2006 RACT SIP to the EPA, the EPA evaluated this submission in accordance with the 100 ton per year (tpy) threshold for “major stationary sources” of VOC or NOX emissions in moderate ozone nonattainment areas. (see CAA sections 182(b)(2) and (f)).

The AVAQMD's 2015 RACT SIP submittal contains the District's RACT evaluation for major stationary sources in accordance with the 25 tpy threshold for major stationary sources of VOC or NOX emissions in severe ozone nonattainment areas. (see CAA sections 182(d) and (f)). The EPA also evaluated AVAQMD's submittals for compliance with the additional RACT requirements that became applicable following the EPA's reclassification of the Antelope Valley ozone nonattainment area from “moderate” to “severe” nonattainment for the 1997 8-hour ozone NAAQS and classification as a severe ozone nonattainment area for the 2008 8-hour ozone NAAQS.

B. Do the RACT SIP submissions meet the evaluation criteria?

With respect to the 1997 8-hour ozone standard, AVAQMD's 2006 RACT SIP and its 2014 Supplemental Analysis ² provide the District's conclusion that the applicable SIP generally satisfies CAA section 182 RACT requirements except for a limited number of rules that did not fully implement an applicable CTG or where rules covering major non-CTG sources must be updated to implement RACT. AVAQMD reviewed the list of CTGs and identified whether or not there was a stationary source located within its jurisdiction. For some categories, AVAQMD determined its rules met RACT, while in other cases it concluded that several rules must be updated to implement RACT.³ With respect to major non-CTG sources, the District identified all facilities that have submitted applications for a CAA title V Federal Operating Permit. Table 1 of the 2006 RACT SIP lists four major sources, two of which are landfills (Antelope Valley Public Landfill and Lancaster Landfill), which the District states are not a major source of ozone precursors. The District also states that VOC emissions from the remaining two title V facilities (Northrup-Grumman and Lockheed Martin) are largely regulated by Rule 1124 Aerospace Operations, which was recently amended and approved into the SIP.⁴ Our review of CARB's emissions inventory database for potential CTG sources did not uncover any CTG source categories or major sources missing from the District's analysis.

² AVAQMD separately provided a supplemental analysis titled, “8-Hour Ozone Reasonably Available Control Technology (RACT) State Implementation Plan (SIP) Analysis—Supplemental Analysis”, dated March 13, 2014, to address the EPA's September 11, 2006 comments on the 2006 RACT SIP [hereinafter “2014 Supplemental Analysis”].

³ See AVAQMD 2014 Supplemental Analysis.

⁴ Rule 1124, Aerospace Assembly and Component Manufacturing Operations, amended August 20, 2013, was approved into the SIP as meeting RACT in 80 FR 60040 (October 5, 2015).

With respect to the 2008 8-hour ozone standard, AVAQMD's 2015 RACT SIP staff report states that “[t]he original 2006 RACT SIP Analysis (for the 1997 8-hour ozone standard), together with the supplemental March 13, 2014 RACT SIP Analysis and this document, [the 2015 RACT SIP Analysis] represent a current and complete RACT SIP Analysis document to satisfy the District's RACT obligation for the 1997 and 2008 8-hour ozone standards.” ⁵

⁵ See AVAQMD 2015 RACT SIP, pg 1.

For each CTG source category, AVAQMD's 2015 RACT SIP identifies if it has a stationary source subject to the CTG. AVAQMD states that for some CTG source categories its rules meet RACT, while in other cases, the rules need to be updated to implement RACT. With respect to major non-CTG sources, the District identified five facilities that submitted applications for title V Federal Operating Permits. Four of these facilities were previously identified in the District's 2006 RACT SIP. One new facility, Wm Bolthouse Farms, is a major source of NOX due to emissions from internal combustion engines used to support agricultural operations.

We reviewed AVAQMD's 2006 RACT SIP, its 2014 Supplemental Analysis, and its 2015 RACT SIPs to determine if the District's rules implemented current RACT. We also reviewed CARB's emissions inventory database and did not uncover any additional major stationary sources that were missing in the District's analyses. The District's efforts to identify CTG sources and major sources appears to be thorough. Based on the EPA's review of the District's evaluations, we propose to conclude that with the exception of the following rules, all of the identified SIP rules implement RACT for the applicable CTG categories and for the major non-CTG stationary sources of VOC and NOX for the 1997 and 2008 8-hour ozone NAAQS. We will discuss the rules' deficiencies in the next section. The rules that are deficient are:

1. Rule 462, Organic Liquid Loading (6/9/95).

2. Rule 1110.2, Emissions from Stationary, Non-road & Portable Internal Combustion Engines (1/21/03).

3. Rule 1151, Motor Vehicle and Mobile Equipment Coating Operations (6/19/12).

4. Rule 1171, Solvent Cleaning Operations (11/17/98).

Where there are no existing sources covered by a particular CTG document, states may, in lieu of adopting RACT requirements for those sources, adopt negative declarations certifying that there are no such sources in the relevant nonattainment area. Tables 2 of AVAQMD's 2006 and 2015 RACT SIPs lists the District's negative declarations where it had no sources subject to the applicable CTG for the 1997 and 2008 8-hour ozone standards respectively. The District based its conclusion on a review of permit files, emissions inventory data, and a search of the internet and yellow pages. We summarized the District's negative declarations in Table 2 below.

Table 2—AVAQMD Negative Declarations for the 1997 and 2008 8-Hour Ozone NAAQS
CTG source category | Negative declaration CTG reference document | 2006 RACT SIP * | 2015 RACT SIP
Coils | EPA-450/2-77-008, Control of Volatile Organic Emissions from Existing Stationary Sources—Volume II: Surface Coating of Cans, Coils, Paper, Fabrics, Automobiles, and Light-Duty Trucks |  | X
Flat Wood Paneling Coatings | EPA-453/R-06-004, Control Techniques Guidelines for Flat Wood Paneling Coatings |  | X
Fiberglass Board Manufacturing Materials | EPA 453/R-08-004, Control Techniques Guidelines for Fiberglass Boat Manufacturing Materials |  | X
Gasoline Bulk Plants | EPA-450/2-77-035, Control of Volatile Organic Emissions from Bulk Gasoline Plants | X | X
Gasoline Loading Terminals >76,000 L | EPA-450/2-77-026, Control of Hydrocarbons from Tank Truck Gasoline Loading Terminals | X |
Large Appliances, Surface Coatings | EPA-450/2-77-034, Control of Volatile Organic Emissions from Existing Stationary Sources—Volume V: Surface Coating of Large Appliances | X | X
Large Appliances, Surface Coatings | EPA 453/R-07-004, Control Techniques Guidelines for Large Appliance Coatings |  | X
Dry Cleaning | EPA-450/3-82-009, Control of Volatile Organic Compound Emissions from Large Petroleum Dry Cleaners |  | X
Magnet Wire Coating | EPA-450/2-77-033, Control of Volatile Organic Emissions from Existing Stationary Sources, Volume IV: Surface Coating of Insulation of Magnet Wire | X | X
Metal Furniture | EPA 453/R-07-005, Control Techniques Guidelines for Metal Furniture Coatings |  | X
Natural Gas/Gasoline Processing Plants | EPA-450/2-83-007, Control of Volatile Organic Compound Equipment Leaks from Natural Gas/Gasoline Processing Plants | X | X
Petroleum Liquid Storage Tanks—Fixed Roof Tanks | EPA-450/2-77-036, Control of Volatile Organic Emissions from Storage of Petroleum Liquids in Fixed-Roof Tanks | X | X
Petroleum Liquid Storage Tanks—External Floating Roof Tanks | EPA-450/2-78-047, Control of Volatile Organic Emissions from Petroleum Liquid Storage in External Floating Roof Tanks | X | X
Pharmaceutical Products | EPA-450/2-78-029, Control of Volatile Organic Emissions from Manufacture of Synthesized Pharmaceutical Products | X | X
Refineries | EPA-450/2-77-025, Control of Refinery Vacuum Producing Systems, Wastewater Separators, and Process Unit Turnarounds | X | X
Refineries | EPA-450/2-78-036, Control of Volatile Organic Compound Leaks from Petroleum Refinery Equipment | X | X
Resin Manufacturing—High-Density Polyethylene, Polypropylene, and Polystyrene Resins | EPA-450/3-83-008, Control of Volatile Organic Compound Emissions from Manufacture of High-Density Polyethylene, Polypropylene, and Polystyrene Resins | X | X
Resin Manufacturing—Synthetic Organic Chemical Polymers and Resin Manufacturing | EPA-450/3-83-006, Control of Volatile Organic Compound Leaks from Synthetic Organic Chemical Polymer and Resin Manufacturing Equipment | X | X
Rubber Tire Manufacturing | EPA-450/2-78-030, Control of Volatile Organic Emissions from Manufacture of Pneumatic Rubber Tires | X | X
Ship Coatings | 61 FR 44050 and EPA-453/R-94-032, Control Techniques Guidelines for Shipbuilding and Ship Repair Operations (Surface Coating) | X | X
Synthetic Organic Chemical Manufacturing | EPA-450/3-84-015, Control of Volatile Organic Compound Emissions from Air Oxidation Process in Synthetic Organic Chemical Manufacturing Industry (SOCMI) | X | X
Synthetic Organic Chemical Manufacturing | EPA-450/4-91-031, Control of Volatile Organic Compound Emissions from Reactor Process and Distillation Operations in SOCMI | X | X
Wood Furniture Surface Coating | EPA-453/R-96-007, Control of VOC Emissions from Wood Furniture Manufacturing Operations | X | X
* These Negative Declarations were approved on July 1, 2011 (76 FR 38572).

Our review of AVAQMD's negative declarations indicate some CTGs missing from the District's analysis. The District should adopt negative declarations for the following CTGs for the 1997 8-hour ozone standard if it concludes it has no sources covered by the CTGs:

1. EPA-450/2-78-032, Control of Volatile Organic Emissions from Existing Stationary Sources—Volume VII: Factory Surface Coating of Flat Wood Paneling.

2. EPA-450/3-82-009, Control of Volatile Organic Compound Emissions from Large Petroleum Dry Cleaners.

3. EPA-450/2-77-008, Control of Volatile Organic Emissions from Existing Stationary Sources—Volume II: Surface Coating of Cans, Coils, Paper, Fabrics, Automobiles, and Light-Duty Trucks, can coating portion.

The District should also adopt negative declarations for the following CTGs for the 2008 8-hour ozone standard if it concludes it has no sources covered by these documents:

1. EPA-450/2-77-008, Can coating portion of Control of Volatile Organic Emissions from Existing Stationary Sources—Volume II: Surface Coating of Cans, Coils, Paper, Fabrics, Automobiles, and Light-Duty Trucks

2. EPA-450/2-77-026, Control of Hydrocarbons from Tank Truck Gasoline Loading Terminals.

3. EPA-450/7-77-032, Control of Volatile Organic Emissions from Existing Stationary Sources—Volume III: Surface Coating of Metal Furniture.

4. EPA-450/2-78-032, Control of Volatile Organic Emissions from Existing Stationary Sources—Volume VII: Factory Surface Coating of Flat Wood Paneling.

5. EPA-453/R-08-003, Drum coating portion of Control Techniques Guidelines for Miscellaneous Metal and Plastic Parts Coatings.

6. EPA 453/R-08-003, Pleasure craft coating portion of Control Techniques Guidelines for Miscellaneous Metal and Plastic Parts Coatings.

Our 2006 and 2015 RACT SIP TSDs provide a more detailed discussion of the EPA's rationale, including an overview of the District's analyses, which were made available for public comment during the District's rulemaking process.

C. What are the RACT deficiencies?

Rule 462, Organic Liquid Loading, (amended 6/9/95) defines “facility vapor leak” as “measured at a distance of 2 centimeters from the source according to EPA Method 21.” This should be corrected to remove the 2 centimeter criteria to be consistent with EPA Method 21.

Rule 1110.2, Emissions from Stationary, Non-road & Portable Internal Combustion Engines, (amended 1/21/03) exempts engines “used directly and exclusively by the owner/operator for agricultural operations necessary for the growing of crops or raising of fowl or animals.” The District should update this rule to eliminate the exemption for agricultural engines or adopt a separate rule for agricultural engines.

Rule 1151, Motor Vehicle and Mobile Equipment Coating Operations (amended 6/19/12) does not cover the coating of new heavier duty vehicles. The District's RACT SIP states it has a new heavier duty vehicle manufacturing facility whose permitted coating operation exceeds the applicability threshold for the 2008 CTG for Automobile and Light Duty Truck Assembly Coatings.

Rule 1171, Solvent Cleaning Operations (amended 11/17/98) needs to incorporate work practices from the 2006 CTG for Industrial Cleaning Solvents.

D. EPA Recommendations To Further Improve the RACT SIPs

The 2015 TSD describes recommendations if additional emission reductions are needed for the next time the local agency modifies its rules. The 2006 and 2015 TSDs also recommend adopting additional negative declarations if the District concludes it has no sources covered by those CTG categories.

E. Proposed Action and Public Comment

As authorized in sections 110(k)(3) and 301(a) of the Act, and explained more fully in our TSDs, the EPA proposes to partially approve and partially disapprove the 2006 and 2015 RACT SIP submittals. We will accept comments from the public on this proposal until January 17, 2017.

If finalized, this partial disapproval would trigger the 2-year clock for the federal implementation plan (FIP) requirement under section 110(c).

In addition, final disapproval would trigger sanctions under CAA section 179 and 40 CFR 52.31 unless the EPA approves subsequent SIP revisions that correct the RACT SIP deficiencies within 18 months of the effective date of the final action.

III. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review.

B. Paperwork Reduction Act (PRA)

This action does not impose an information collection burden under the PRA because this action does not impose additional requirements beyond those imposed by state law.

C. Regulatory Flexibility Act (RFA)

I certify that this action will not have a significant economic impact on a substantial number of small entities under the RFA. This action will not impose any requirements on small entities beyond those imposed by state law.

D. Unfunded Mandates Reform Act (UMRA)

This action does not contain any unfunded mandate as described in UMRA, 2 U.S.C. 1531-1538, and does not significantly or uniquely affect small governments. This action does not impose additional requirements beyond those imposed by state law. Accordingly, no additional costs to State, local, or tribal governments, or to the private sector, will result from this action.

E. Executive Order 13132: Federalism

This action does not have federalism implications. It will not have substantial direct effects on the states, on the relationship between the national government and the states, or on the distribution of power and responsibilities among the various levels of government.

F. Executive Order 13175: Coordination With Indian Tribal Governments

This action does not have tribal implications, as specified in Executive Order 13175, because the SIP is not approved to apply on any Indian reservation land or in any other area where the EPA or an Indian tribe has demonstrated that a tribe has jurisdiction, and will not impose substantial direct costs on tribal governments or preempt tribal law. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not impose additional requirements beyond those imposed by state law.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Population

The EPA lacks the discretionary authority to address environmental justice in this rulemaking.

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: December 2, 2016.
Deborah Jordan,
Acting Regional Administrator, Region IX.

[FR Doc. 2016-30179 Filed 12-14-16; 8:45 am]

BILLING CODE 6560-50-P